DEPARTMENT OF ENERGY

Federal Energy Regulatory Commission

[Project No. 13393-000; Project No. 13422-000; Project No. 13425-000]

Consolidated Hydro New Hampshire, Inc.: Village of Swanton, VT; TransCanada Hydro Northeast Inc.; Notice of Competing Preliminary Permit Applications Accepted for Filing and Soliciting Comments, and Motions To Intervene

July 28, 2009.

Consolidated Hydro New Hampshire, Inc., the Village of Swanton, Vermont, and TransCanada Hydro Northeast Inc. filed applications, pursuant to section 4(f) of the Federal Power Act, proposing to study the feasibility of the Murphy Dam Project, to be located at the existing Murphy Dam owned by the State of New Hampshire located on the Connecticut River in Coos County, New Hampshire.

These permit applications are filed in competition with Rockhouse Mountain Energy, LLC's proposed Murphy Dam Project No. 13243-000, which was public noticed on January 9, 2009. The deadline for filing competing applications and notices of intent was March 10, 2009. Both the Village of Swanton, Vermont, and TransCanada Hydro Northeast Inc. filed timely notices of intent to file competing permit applications.

Descriptions of the proposed Murphy Dam Projects:

Consolidated Hydro New Hampshire, Inc.'s Project No. 13393-000 application was filed on March 10, 2009. The project would consist of: (1) A proposed 500-foot-long, 8-foot-diameter steel penstock; (2) a proposed powerhouse containing one generating unit having a total installed capacity of 3.0 MW; (3) a proposed 1,500-foot-long, 34.5-kV transmission line; (4) a 30-foot-wide, 100-foot-long tailrace; and (5) appurtenant facilities. The proposed project would have an average annual generation of 12.4 gigawatt-hours, which would be sold to a local utility.

The Village of Swanton, Vermont's Project No. 13422-000 application was filed on April 8, 2009. The project would consist of: (1) A proposed 300-foot-long, 8-foot-diameter penstock; (2) a proposed powerhouse containing one generating unit having a total installed capacity of 2.0 MW; (3) a proposed 1,500-foot-long, 34.5-kV transmission line; (4) a 30-foot-wide, 100-foot-long tailrace; and (5) appurtenant facilities. The proposed project would have an average annual generation of 12.4 gigawatt-hours, which would be sold to a local utility.

TransCanada Hydro Northeast Inc.'s Project No. 13425-000 application was filed on April 8, 2009. The project would consist of: (1) A proposed 2,500-foot-long, 8-foot-diameter penstock; (2) a proposed powerhouse containing one generating unit having a total installed capacity of 2.51 MW; (3) a proposed 1,500-foot-long, 34.5-kV transmission line; (4) a 30-foot-wide, 100-foot-long tailrace; and (5) appurtenant facilities. The proposed project would have an average annual generation of 11.1 gigawatt-hours, which would be sold to a local utility.

Applicants Contact: For Consolidated Hydro New Hampshire, Inc.: Mr. Victor Engel, Consolidated Hydro New Hampshire, Inc., c/o Enel North America, Inc., One Tech Drive, Suite 220, Andover, MA 01810; phone (978) 681-1900 Ext. 811. For the Village of Swanton, Vermont: Mr. Paul Nolan, 5515 North 17th Street, Arlington, VA 22205-2722; phone (703) 534-5509. For TransCanada Hydro Northeast Inc.: Mr. John L. Ragonese, TransCanada Hydro Northeast Inc., 4 Park Street, Suite 402, Concord, NH 03301; phone (603) 225-5528.

FERC Contact: Michael Spencer, (202) 502-6093.

Deadline for filing comments, motions to intervene: 60 days from the issuance of this notice. Comments, motions to intervene and may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC. 20426. For more information on how to submit these types of filings please go to the Commission's Web site located at http://www.ferc.gov/filing-comments.asp. More information about this project can be viewed or printed on the “eLibrary” link of the Commission's Web site at http://www.ferc.gov/docs-filing/elibrary.asp. Enter the docket number (P-13393-000, P-13422-000, or P-13425-000) in the docket number field to access the document. For assistance, call toll-free 1-866-208-3372.

Kimberly D. Bose,
Secretary.

[FR Doc. E9-18552 Filed 8-3-09; 8:45 am]

BILLING CODE 6717-01-P